SMALL BUSINESS ADMINISTRATION

Revocation of License of Small Business Investment Company

Pursuant to the authority granted to the United States Small Business Administration by the Final Order of the United States District Court for the District of Massachusetts, dated August 8, 2007, the United States Small Business Administration hereby revokes the license of Marathon Investment Partners, L.P., a Delaware Limited Partnership, to function as a small business investment company under the Small Business Investment Company License No. 01/01-0370 issued to Marathon Investment Partners, L.P. on September 30, 1998 and said license is hereby declared null and void as of August 8, 2007.

United States Small Business Administration.
Dated: March 6, 2008.
A. Joseph Shepard,
Associate Administrator for Investment.

[FR Doc. E8-5080 Filed 3-13-08; 8:45 am]

BILLING CODE 8025-01-P